DEPARTMENT OF ENERGY

Federal Energy Regulatory Commission

Combined Notice of Filings #1

Take notice that the Commission received the following electric rate filings:

Docket Numbers: ER10-1827-012; ER10-3230-014; ER10-3239-014; ER10-3240-014; ER10-3253-014; ER11-4111-005; ER13-1248-005; ER13-1485-014; ER14-1777-012; ER15-2722-010; ER18-1310-005; ER18-2264-013; ER19-289-013; ER19-461-005; ER19-2462-011; ER21-684-002.

Applicants: Wheelabrator South Broward Inc., Macquarie Energy LLC, Wheelabrator Concord Company, L.P., Cleco Cajun LLC, Macquarie Energy Trading LLC, Wheelabrator Millbury Inc., Wheelabrator Saugus Inc., Wheelabrator Falls Inc., Wheelabrator Baltimore, L.P., Patua Project LLC, Hudson Ranch Power I LLC, Wheelabrator Bridgeport, L.P., Wheelabrator North Andover Inc., Wheelabrator Westchester L.P., Wheelabrator Portsmouth Inc., Cleco Power LLC.

Description: Notice of Non-Material Change in Status of Cleco Power LLC, et al.

Filed Date: 7/31/25.

Accession Number: 20250731-5285.

Comment Date: 5 p.m. ET 8/21/25.

Docket Numbers: ER10-1852-116; ER10-1951-089; ER11-4462-112; ER16-1509-003; ER17-838-086; ER20-2070-013; ER21-2109-011; ER25-668-004.

Applicants: Wheatridge East Wind, LLC, Wheatridge Solar Energy Center, LLC, Wheatridge Wind II, LLC, NextEra Energy Marketing, LLC, New Wave Energy LLC, NEPM II, LLC, NextEra Energy Services Massachusetts, LLC, Florida Power & Light Company.

Description: Notice of Change in Status of Florida Power & Light Company, et al.

Filed Date: 7/31/25.

Accession Number: 20250731-5282.

Comment Date: 5 p.m. ET 8/21/25.

Docket Numbers: ER10-2727-012; ER10-1451-014; ER10-1467-015; ER10-1469-014; ER10-2687-014; ER10-2688-017; ER10-2728-016; ER11-3907-008; ER24-172-006.

Applicants: FirstEnergy Pennsylvania Electric Company, The Toledo Edison Company, Green Valley Hydro, LLC, The Potomac Edison Company, Monongahela Power Company, The Cleveland Electric Illuminating Company, Ohio Edison Company, Jersey Central Power & Light, Allegheny Energy Supply Company, LLC.

Description: Notice of Non-Material Change in Status of Allegheny Energy Supply Company, LLC, et al.

Filed Date: 7/31/25.

Accession Number: 20250731-5284.

Comment Date: 5 p.m. ET 8/21/25.

Docket Numbers: ER11-2508-030; ER19-1417-005; ER21-568-003; ER21-577-004.

Applicants: Morgantown Power, LLC, Lanyard Power Holdings, LLC, GenOn Power Midwest, LP, GenOn Energy Management, LLC.

Description: Notice of Change in Status of GenOn Energy Management, LLC, et al.

Filed Date: 7/31/25.

Accession Number: 20250731-5275.

Comment Date: 5 p.m. ET 8/21/25.

Docket Numbers: ER12-164-029; ER10-1882-018; ER10-1894-017; ER10-2563-013; ER18-2203-009; ER19-1402-008; ER20-2288-009; ER22-2046-008; ER24-1576-006.

Applicants: Maple Flats Solar Energy Center LLC, Sapphire Sky Wind Energy LLC, Tatanka Ridge Wind, LLC, Coyote Ridge Wind, LLC, Upper Michigan Energy Resources Corporation, Wisconsin Electric Power Company, Wisconsin Public Service Corporation, Wisconsin River Power Company, Bishop Hill Energy III LLC.

Description: Notice of Non-Material Change in Status of Bishop Hill Energy III LLC, et al.

Filed Date: 7/31/25.

Accession Number: 20250731-5276.

Comment Date: 5 p.m. ET 8/21/25.

Docket Numbers: ER15-2582-021; ER10-1852-115; ER10-1951-088; ER11-4462-111; ER15-2101-022; ER16-1509-002; ER17-838-085; ER21-1880-012; ER23-1862-008; ER25-796-004; ER25-1961-002; ER25-2416-002.

Applicants: Weld Energy Storage, LLC, Carousel Wind, LLC, Jackson Fuller Energy Storage, LLC, Roundhouse Renewable Energy II, LLC, Niyol Wind, LLC, NextEra Energy Marketing, LLC, New Wave Energy LLC, Golden West Power Partners, LLC, NEPM II, LLC, NextEra Energy Services Massachusetts, LLC, Florida Power & Light Company, Carousel Wind Farm, LLC.

Description: Notice of Change in Status of Carousel Wind Farm, LLC, et al.

Filed Date: 7/31/25.

Accession Number: 20250731-5281.

Comment Date: 5 p.m. ET 8/21/25.

Docket Numbers: ER17-556-010; ER23-2469-005; ER10-1362-011; ER11-3959-012; ER12-726-012; ER12-2639-015; ER15-1019-012; ER17-104-012; ER17-105-012; ER18-2158-006; ER21-2330-005; ER21-2331-005; ER21-2333-005; ER21-2336-005; ER22-2703-007.

Applicants: Pattern Energy Management Services LLC, Tecolote Wind LLC, Red Cloud Wind LLC, Duran Mesa LLC, Clines Corners Wind Farm LLC, Stillwater Wind, LLC, Broadview Energy JN, LLC, Broadview Energy KW, LLC, Fowler Ridge IV Wind Farm LLC, Ocotillo Express LLC, Spring Valley Wind LLC, Post Rock Wind Power Project, LLC, Hatchet Ridge Wind, LLC, Lost Creek Wind, LLC, Grady Wind Energy Center, LLC.

Description: Notice of Change in Status of Grady Wind Energy Center, LLC, et al.

Filed Date: 7/31/25.

Accession Number: 20250731-5273.

Comment Date: 5 p.m. ET 8/21/25.

Docket Numbers: ER18-92-005.

Applicants: Carroll County Energy LLC.

Description: Compliance filing: Informational Filing Regarding Transfer of Ownership to be effective N/A.

Filed Date: 8/4/25.

Accession Number: 20250804-5147.

Comment Date: 5 p.m. ET 8/25/25.

Docket Numbers: ER18-397-004; ER18-398-004.

Applicants: SunE Beacon Site 5 LLC, SunE Beacon Site 2 LLC.

Description: Notice of Non-Material Change in Status of SunE Beacon Site 2 LLC, et al.

Filed Date: 7/31/25.

Accession Number: 20250731-5279.

Comment Date: 5 p.m. ET 8/21/25.

Docket Numbers: ER20-2176-003; ER20-2177-003; ER23-1810-002; ER23-1811-003; ER24-3005-002; ER25-1460-001; ER25-1461-001.

Applicants: Sol InfraCo MT3, LLC, Eldorado Solar Project II, LLC, Eldorado Solar Project, LLC, Sol InfraCo MT1, LLC, Indian Creek Solar Farm LLC, Helios 5 MT, LLC, LA3 West Baton Rouge, LLC.

Description: Notice of Non-Material Change in Status of LA3 West Baton Rouge, LLC, et al.

Filed Date: 7/31/25.

Accession Number: 20250731-5283.

Comment Date: 5 p.m. ET 8/21/25.

Docket Numbers: ER21-1755-015; ER23-1642-012; ER24-280-005; ER14-2500-023.

Applicants: Newark Energy Center, LLC, Hartree-Meadowlands Newark, LLC, NE Renewable Power, LLC, Hartree Partners, LP.

Description: Notice of Change in Status of Hartree Partners, LP, et al.

Filed Date: 7/31/25.

Accession Number: 20250731-5271.

Comment Date: 5 p.m. ET 8/21/25.

Docket Numbers: ER21-2557-011; ER22-2662-011; ER22-2663-011; ER22-2664-011; ER23-1275-009; ER23-1276-009; ER24-2249-007; ER24-2251-006; ER24-2854-005; ER24-2855-005; ER24-2856-005; ER25-939-003.

Applicants: Aron Energy Prepay 52 LLC, Aron Energy Prepay 46 LLC, Aron Energy Prepay 45 LLC, Aron Energy Prepay 44 LLC, Aron Energy Prepay 43 LLC, Aron Energy Prepay 41 LLC, Aron Energy Prepay 22 LLC, Aron Energy Prepay 21 LLC, Aron Energy Prepay 16 LLC, Aron Energy Prepay 15 LLC, Aron Energy Prepay 14 LLC, Aron Energy Prepay 5 LLC.

Description: Notice of Non-Material Change in Status of Aron Energy Prepay 5 LLC, et al.

Filed Date: 7/31/25.

Accession Number: 20250731-5270.

Comment Date: 5 p.m. ET 8/21/25.

Docket Numbers: ER21-2819-005.

Applicants: South Field Energy LLC.

Description: Compliance filing: Informational Filing Regarding Transfer of Ownership to be effective N/A.

Filed Date: 8/4/25.

Accession Number: 20250804-5152.

Comment Date: 5 p.m. ET 8/25/25.

Docket Numbers: ER23-113-003; ER19-115-005; ER23-2899-003; ER24-619-004; ER24-773-004; ER24-2220-004; ER25-1446-002.

Applicants: MS Solar 7, LLC, FL Solar 7, LLC, Escalante Solar, LLC, MS Solar 5, LLC, MS Solar 6, LLC, FL Solar 5, LLC, AL Solar D, LLC.

Description: Notice of Non-Material Change in Status of AL Solar D, LLC, et al.

Filed Date: 7/31/25.

Accession Number: 20250731-5269.

Comment Date: 5 p.m. ET 8/21/25.

Docket Numbers: ER25-2216-000.

Applicants: Boralex Energy Trading and Marketing Inc.

Description: Supplement to 07/14/2025, Boralex Energy Trading and Marketing Inc. tariff filing.

Filed Date: 7/30/25.

Accession Number: 20250730-5236.

Comment Date: 5 p.m. ET 8/11/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: August 5, 2025.
Debbie-Anne A. Reese,
Secretary.

[FR Doc. 2025-15144 Filed 8-8-25; 8:45 am]

BILLING CODE 6717-01-P